DEPARTMENT OF THE INTERIOR

Fish and Wildlife Service

[FWS-R3-ES-2013-0032; FXES11120300000F2-134-FF03E00000]

Final Environmental Impact Statement, Habitat Conservation Plan, Implementing Agreement, and Programmatic Agreement, Fowler Ridge Wind Farm, Benton County, Indiana

AGENCY: Fish and Wildlife Service, Interior.

ACTION: Notice of availability

SUMMARY: Under the National Environmental Policy Act (NEPA), the U.S. Fish and Wildlife Service (Service) is advising the public of the availability of the final Environmental Impact Statement (FEIS) associated with an application received from Fowler Ridge Wind Farm LLC, Fowler Ridge II Wind Farm LLC, Fowler Ridge III Wind Farm LLC, and Fowler Ridge IV Wind Farm LLC, collectively referred to as Fowler Ridge (applicant), for an incidental take permit (permit) pursuant to the Endangered Species Act of 1973, as amended (ESA). We also announce the availability of the final Fowler Ridge Wind Farm (FRWF; project) Habitat Conservation Plan (HCP), prepared in accordance with the ESA, and the availability of a final Programmatic Agreement (PA) to address the National Historic Preservation Act (NHPA) and its implementing regulations, “Protection of Historic Properties.” Fowler Ridge submitted the HCP, as well as a proposed Implementing Agreement (IA), as part of its incidental take permit application. If issued, the permit would authorize incidental take of the federally endangered Indiana bat (Myotis sodalis) from operation of Phases I-IV of the project. Fowler Ridge is requesting a 21-year permit term.

The Service is furnishing this notice to allow other agencies and the public an opportunity to review these documents. For locations to review the documents, please see the Availability of Documents section below.

DATES: The Service's decision on issuance of the permit will occur no sooner than 30 days after the publication of the Environmental Protection Agency notice of the FEIS in the Federal Register and will be documented in a Record of Decision February 18, 2014.

ADDRESSES: Document availability:

• Internet: You may obtain copies of the documents on the Internet at http://www.regulations.gov [FWS-R3-ES-2013-0032] or http://www.fws.gov/midwest/endangered/permits/hcp/r3hcps.html.

• U.S. Mail: You can obtain an electronic copy of the documents by mail from the Ecological Services Office in the Midwest Regional Office (see FOR FURTHER INFORMATION CONTACT).

• In-Person: To view hard copies of the documents in person, go to the Ecological Services Office (8 a.m. to 4 p.m.) listed under FOR FURTHER INFORMATION CONTACT, or to one of the following libraries during normal business hours: Benton County Public Library, (765) 884 -1720, 102 N. Van Buren Avenue, Fowler, IN 47944; or Otterbein Public Library (www.otterbeinpubliclibrary.org), (765) 583-2107, 23 E. 1st Street, Otterbein, IN 47970.

FOR FURTHER INFORMATION CONTACT: Scott Pruitt, Field Supervisor, Bloomington, Indiana, Ecological Services Field Office, U.S. Fish and Wildlife Service, 620 South Walker Street, Bloomington, IN 47403; telephone: (812) 334-4261, extension 214; or Rick Amidon, Fish and Wildlife Biologist, Ecological Services, Midwest Regional Office, U.S. Fish and Wildlife Service, 5600 American Blvd. West, Suite 990, Bloomington, MN 55437-1458; telephone: (612) 713-5164.

SUPPLEMENTARY INFORMATION:

Background

We have received an application from Fowler Ridge Wind Farm LLC, Fowler Ridge II Wind Farm LLC, Fowler Ridge III Wind Farm LLC, and Fowler Ridge IV Wind Farm LLC, collectively referred to as Fowler Ridge, for an incidental take permit (TE95012A) under the ESA (16 U.S.C. 1531 et seq.). If approved, the permit would be for a 21-year period and would authorize incidental take of the endangered Indiana bat (Myotis sodalis).

The applicant has prepared an HCP that covers the operation of Phases I-IV of the project. The project consists of a wind-powered electric generation facility located in an approximately 72,947-acre area (the project area including a one-half-mile buffer around the outside turbines) in Benton County, Indiana. The HCP describes the following: (1) Biological goals and objectives of the HCP; (2) covered activities; (3) permit duration; (4) project area; (5) alternatives to the taking that were considered; (5) public participation; (6) life history of the Indiana bat; (6) quantification of the take for which authorization is requested; (7) assessment of direct and indirect effects of the taking on the Indiana bat within the Midwest Recovery Unit (as delineated in the 2007 Indiana Bat Draft Recovery Plan, Service) and range-wide; (8) a conservation program consisting of avoidance and minimization measures, mitigation, monitoring, and adaptive management; (9) funding for implementation of the HCP; (10) procedures to deal with changed and unforeseen circumstances; and (11) methods for permit amendments.

In addition to the HCP, the applicant has prepared an IA to document the responsibilities of the parties. Pursuant to the NHPA (16 U.S.C. 470, 470f), the Service has initiated Section 106 consultation with the Indiana State Historic Preservation Office regarding the construction of turbines under Phase IV of the FRWF project and the implementation of mitigation projects in accordance with the terms of the HCP. Sites have not been selected for the Phase IV turbines or for any required mitigation. Therefore, future efforts will be required to identify archaeological sites that may be adversely affected by the construction of Phase IV turbines and implementation of mitigation. Following siting of the Phase IV turbines and location of mitigation sites, archaeological surveys will be conducted, with plans and reports submitted to the Indiana State Historic Preservation Office for review. The PA between the Service, Fowler Ridge, and the Indiana State Historic Preservation Office describes the process for conducting the surveys, evaluating the results of the surveys, and determining if resources can be avoided or if additional surveys or mitigation are necessary before the Section 106 process is completed. The final PA will be signed prior to issuance of the EIS Record of Decision. The Section 106 process will be completed and a memorandum of agreement signed prior to construction or mitigation beginning.

Public Involvement

The Service formally initiated public scoping and an environmental review of the project through publication of a Notice of Intent to prepare an Environmental Impact Statement in the Federal Register on May 25, 2011 (76 FR 30384-30386). Utilizing the public scoping comments, the Service prepared a draft EIS to analyze the effects of the alternatives on the human environment. The draft EIS was released for a 60-day public comment on April 5, 2013 (78 FR 20690-20692). A public meeting was held on April 18, 2013, at the Benton County Government Annex, 410 South Adeway, Suite A, Fowler, IN to solicit additional input from the public on the HCP and Draft EIS. The official comment period ended on June 4, 2013.

Authority

We provide this notice under section 10(c) of the ESA (16 U.S.C. 1531, 1539(c)) and its implementing regulations (50 CFR 17.22), NEPA (42 U.S.C. 4321 et seq.) and its implementing regulations (40 CFR 1506.6; 43 CFR Part 46), and Section 106 of the NHPA (16 U.S.C. 470, 470f) and its implementing regulations (36 CFR Part 800). We will evaluate the application, associated documents, and comments submitted to determine whether the application meets the requirements of section 10(a) of the ESA. A permit decision will be made no sooner than 30 days after the publication of the EPA's FEIS notice in the Federal Register and completion of the Record of Decision. If we determine that all requirements are met, we will issue an incidental take permit under section 10(a)(1)(B) of the ESA to Fowler Ridge for take of the Indiana bat, incidental to otherwise lawful activities in accordance with the HCP, the IA, and the permit.

Dated: February 11, 2013.
Lynn Lewis,
Assistant Regional Director, Ecological Services, Midwest Region.

[FR Doc. 2014-00609 Filed 1-16-14; 8:45 am]

BILLING CODE 4310-55-P